DEPARTMENT OF TRANSPORTATION

Federal Aviation Administration

14 CFR Part 39

[Docket No. FAA-2014-0771; Directorate Identifier 2014-CE-006-AD; Amendment 39-18056; AD 2014-26-05]

RIN 2120-AA64

Airworthiness Directives; Beechcraft Corporation Airplanes

AGENCY: Federal Aviation Administration (FAA), DOT.

ACTION: Final rule.

SUMMARY: We are adopting a new airworthiness directive (AD) for certain Beechcraft Corporation Model G58 airplanes. This AD was prompted by reports of fuel leaks due to fuel cells that did not properly fit in Model G58 airplanes. This AD requires inspecting for and replacing, as necessary, certain fuel cells. This AD also requires inspecting and replacing parts, as necessary, of the left and right fuel system installations and correcting torques on fuel system fittings; and prohibits future installations of certain fuel cells. We are issuing this AD to correct the unsafe condition on these products.

DATES: This AD is effective February 9, 2015.

The Director of the Federal Register approved the incorporation by reference of certain publications listed in this AD as of February 9, 2015.

ADDRESSES: • For information relating to Beechcraft Corporation Model G58 airplanes or part numbers contact: Thomas Teplik, Aerospace Engineer, Wichita Aircraft Certification Office, FAA, 1801 Airport Road, Room 100, Wichita, Kansas 67209; phone: (316) 946-4196; fax: (316) 946-4107; email: thomas.teplik@faa.gov.

• For information relating to Floats and Fuel Cells, Inc. (FFC) parts manufacturer approval (PMA) fuel cells contact: Keith Moore, Atlanta Aircraft Certification Office, FAA, 1701 Columbia Avenue, College Park, Georgia 30337; telephone: (404) 474-5517; fax: (404) 474-5500; email: keith.moore@faa.gov.

You may view this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0771; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: • For information relating to Beechcraft Corporation Model G58 airplanes or part numbers contact: Thomas Teplik, Aerospace Engineer, Wichita Aircraft Certification Office, FAA, 1801 Airport Road, Room 100, Wichita, Kansas 67209; phone: (316) 946-4196; fax: (316) 946-4107; email: thomas.teplik@faa.gov.

• For information relating to Floats and Fuel Cells, Inc. (FFC) parts manufacturer approval (PMA) fuel cells contact: Keith Moore, Atlanta Aircraft Certification Office, FAA, 1701 Columbia Avenue, College Park, Georgia 30337; telephone: (404) 474-5517; fax: (404) 474-5500; email: keith.moore@faa.gov.

SUPPLEMENTARY INFORMATION:

Discussion

We issued a notice of proposed rulemaking (NPRM) to amend 14 CFR part 39 by adding an AD that would apply to certain Beechcraft Corporation Model G58 airplanes. The NPRM published in the Federal Register on October 7, 2014 (79 FR 60384). The NPRM was prompted by reports of fuel leaks due to fuel cells that did not properly fit; improper installation of fuel components, which may cause loads on fuel cells and breach of fuel cells; and improper installation of fuel hoses and clamps, which may cause fuel leaks in Model G58 airplanes. The NPRM proposed to require inspecting for and replacing, as necessary, certain fuel cells. The NPRM also proposed to require inspecting and replacing parts, as necessary, of the left and right fuel system installations and correcting torques on fuel system fittings; and prohibit future installations of certain fuel cells. We are issuing this AD to correct the unsafe condition on these products.

Comments

We gave the public the opportunity to participate in developing this AD. We received no comments on the NPRM (79 FR 60384, October 7, 2014) or on the determination of the cost to the public.

Conclusion

We reviewed the relevant data and determined that air safety and the public interest require adopting this AD as proposed except for minor editorial changes. We have determined that these minor changes:

• Are consistent with the intent that was proposed in the NPRM (79 FR 60384, October 7, 2014) for correcting the unsafe condition; and

• Do not add any additional burden upon the public than was already proposed in the NPRM (79 FR 60384, October 7, 2014).

Costs of Compliance

We estimate that this AD affects 18 airplanes of U.S. registry.

We estimate the following costs to comply with this AD:

Estimated Costs
Action | Labor cost | Parts cost | Cost per product | Cost on U.S. operators
Inspection of fuel cells * | 12 work-hours × $85 per hour = $1,020 | Not Applicable | $1,020 | $5,100
Inspection of left and right fuel system installations ** | 30 work-hours × $85 per hour = $2,550 | Not Applicable | 2,550 | 28,050
Inspection for proper torque on fuel system fittings *** | 4 work-hours × $85 per hour = $340 | Not Applicable | 340 | 2,380
* Applies to the 5 specific serial numbers on the U.S. registry that may have improperly fitting fuel cells installed at production.
** Applies to the 11 specific serial numbers on the U.S. registry that must do Part 1 of the service information.
*** Applies to the 7 specific serial numbers on the U.S. registry, listed in the service information that must do Part 2 of the service information.

We estimate the following costs to do any necessary installations/replacements that are required based on the results of inspections. We have no way of determining the number of airplanes that might need these installations/replacements:

On-Condition Costs
Action | Labor cost | Parts cost | Cost per product
Replacement of left-hand (LH) leading edge (LE) outboard fuel cell | 16 work-hours × $85 per hour = $1,360 | $2,599 (includes fuel cell, $2,545 + clamp/gasket, $54) | $3,959
Replacement of right-hand (RH) LE outboard fuel cell | 16 work-hours × $85 per hour = $1,360 | $2,599 (includes fuel cell, $2,545 + clamp/gasket, $54) | 3,959
Replacement of LH LE inboard fuel cell | 16 work-hours × $85 per hour = $1,360 | $4,264 (includes fuel cell, $4,210 + clamp/gasket, $54) | 5,624
Replacement of RH LE inboard fuel cell | 16 work-hours × $85 per hour = $1,360 | $2,242 (includes fuel cell, $2,188 + clamp/gasket, $54) | 3,602
Replacement of LH center fuel cell | 16 work-hours × $85 per hour = $1,360 | $1,931 (includes fuel cell, $1,877 + clamp/gasket, $54) | 3,291
Replacement of RH center fuel cell | 16 work-hours × $85 per hour = $1,360 | $3,049 (includes fuel cell, $2,995 + clamp/gasket, $54) | 4,409
Replacement of tube assembly, flex hose, and clamps | 10 work-hours × $85 per hour = $850 | $672 (includes LH and RH tube assemblies, flex hoses, and clamps) | 1,522

According to Beechcraft Corporation, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-26-05 Beechcraft Corporation: Amendment 39-18056; Docket No. FAA-2014-0771; Directorate Identifier 2014-CE-006-AD.

(a) Effective Date

This AD is effective February 9, 2015.

(b) Affected ADs

None.

(c) Applicability

This AD applies to Beechcraft Corporation Model G58 airplanes, serial numbers (SNs) TH-2335 through TH-2378, certificated in any category.

(d) Subject

Joint Aircraft System Component (JASC)/Air Transport Association (ATA) of America Code: 28, Fuel.

(e) Unsafe Condition

This AD was prompted by reports of fuel leaks due to fuel cells that did not properly fit in Model G58 airplanes. We are issuing this AD to detect and correct improperly fitting fuel cells. We are also issuing this AD to correct left and right fuel system installations and set correct torque on fuel system fittings for all affected airplanes, which if not corrected, could result in significant fuel leakage. This could lead to an imbalance condition, which may affect airplane controllability, and/or could lead to an airplane fire.

(f) Compliance

Comply with this AD within the compliance times specified in paragraphs (g) and (h), including all subparagraphs, unless already done. All of the actions in paragraphs (g) and (h) must be completed for compliance with this AD. The actions of Beechcraft Mandatory Service Bulletin SB 28-4127, dated June 2013, and Beechcraft Mandatory Service Bulletin SB 28-4131, dated November 2013, have numerous overlapping tasks. Instead of completing the required actions in paragraph (g) and paragraph (h) separately, you may complete the actions of both paragraphs concurrently to avoid repeating the same tasks unnecessarily. We recommend reviewing Appendices 1 through 3 of this AD for general guidance and suggestions for task ordering to assist you in not repeating tasks unnecessarily.

(g) Fuel Cell Inspection

(1) For Model G58 airplanes, S/Ns TH-2356 through TH-2378: Within the next 100 hours time-in-service (TIS) after [February 9, 2015 (the effective date of this AD) or within the next 12 months after February 9, 2015 (the effective date of this AD), whichever occurs first, inspect the fuel cells (left hand (LH) inboard, outboard, and center; and right hand (RH) inboard, outboard, and center) following Beechcraft Mandatory Service Bulletin SB 28-4131, dated November 2013. If any fuel cell is Beechcraft Corporation P/N 60-921046-5, 60-921046-6, 002-920034-9, 002-920034-10, 58-380003-13, or 58-380003-14; or Floats and Fuel Cells, Inc. (FFC) parts manufacturer approval (PMA) P/N B-2503-9/-10; B-2034-3/-4; or B-2646-3/-4, before further flight, replace the fuel cell(s) with Beechcraft Corporation P/N 60-921046-1, 60-921046-2, 002-920034-1, 002-920034-2, 58-380003-5, or 58-380003-6, as applicable, following Beechcraft Mandatory Service Bulletin SB 28-4131, dated November 2013.

(2) For Model G58 airplanes, S/Ns TH-2335 through TH-2378: As of February 9, 2015 (the effective date of this AD), do not install the following P/Ns:

(i) Beechcraft Corporation P/N 60-921046-5, 60-921046-6, 002-920034-9, 002-920034-10, 58-380003-13, or 58-380003-14; or

(ii) FFC PMA fuel cells P/N B-2503-9/-10, B-2034-3/-4, or B-2646-3/-4.

(h) Fuel System Inspection

Certain Model G58 airplanes, as listed in paragraphs (h)(1), (h)(2), and (h)(3) of this AD, may have incorrect left and right fuel system installations and incorrect torque on fuel system fittings.

(1) For Model G58 airplanes, SNs TH-2335, TH-2338 through TH-2348, TH-2351 through TH-2359, TH-2362 through TH-2366, TH-2369, and TH-2371 that are already in compliance with Part 1 of the Accomplishment Instructions in Beechcraft Mandatory Service Bulletin SB 28-4127, dated June 2013: Within 100 hours TIS after February 9, 2015 (the effective date of this AD) or within the next 12 months after February 9, 2015 (the effective date of this AD), whichever occurs first, do the following actions in paragraphs (h)(1)(i) and (h)(1)(ii), including all subparagraphs as applicable:

(i) If any discrepancies are/were found during the inspection of the fuel cell system that required replacement of one of the fuel cells, do the following actions:

(A) Review the airplane maintenance records, Airworthiness Approval Tag (FAA Form 8130-3), or other positive form of parts identification such as a shipping ticket, invoice, or direct ship authority letter, to determine if the replaced fuel cell(s) is P/N 60-921046-5, 60-921046-6, 002-920034-9, 002-920034-10, 58-380003-13, or 58-380003-14; or FFC P/N B-2503-9/-10, B-2034-3/-4, or B-2646-3/-4.

(B) If during the check in paragraph (h)(1)(i)(A) of this AD, you positively identify the replaced fuel cell(s) is not P/N 60-921046-5, 60-921046-6, 002-92003-9, 002-920034-10, 58-380003-13, or 58-380003-14; or FFC P/N B-2503-9/-10, B-2034-3/-4, or B-2646-3/-4, go to the required action in paragraph (h)(1)(ii) of this AD.

(C) If during the check in paragraph (h)(1)(i)(A) of this AD, you positively identify the replaced fuel cell(s) is P/N 60-921046-5, 60-921046-6, 002-920034-9, 002-920034-10, 58-380003-13, 58-380003-14; or FFC P/N B-2503-9/-10, B-2034-3/-4, or B-2646-3/-4, before further flight, replace the fuel cell(s) with Beechcraft Corporation P/N 60-921046-1, 60-921046-2, 002-920034-1, 002-920034-2, 58-380003-5, or 58-380003-6, as applicable, following Beechcraft Mandatory Service Bulletin SB 28-4131, dated November 2013.

(D) If during the check in paragraph (h)(1)(i)(A) of this AD, you cannot positively identify the P/N of the replaced fuel cell(s), within the next 100 hours TIS after February 9, 2015 (the effective date of this AD) or within the next 12 months after February 9, 2015 (the effective date of this AD), whichever occurs first, physically inspect each replaced fuel cell to verify the part number. If the replaced fuel cell(s) is P/N 60-921046-5, 60-921046-6, 002-920034-9, 002-920034-10, 58-380003-13, 58-380003-14; or FFC P/N B-2503-9/-10, B-2034-3/-4, or B-2646-3/-4, before further flight, replace the fuel cell(s) with Beechcraft Corporation P/N 60-921046-1, 60-921046-2, 002-920034-1, 002-920034-2, 58-380003-5, or 58-380003-6, as applicable, following Beechcraft Mandatory Service Bulletin SB 28-4131, dated November 2013.

(ii) Gain access to the wet wing interconnect tube P/N 60-921047-1 following Part 1 of the Accomplishment Instructions in Beechcraft Mandatory Service Bulletin SB 28-4127, dated June 2013. Verify wet wing interconnect tube P/N 60-921047-1 is installed in leading edge outboard fuel cell with correct clamp P/N 52KS3 or P/N 4852SS305 and the clamp is torqued to 20 to 25 inch pounds.

Note 1 to paragraphs (h)(1)(ii) and (h)(2)(iii): The correct clamp part number and correct torque for installing the wet wing interconnect tube were inadvertently omitted from Beechcraft Mandatory Service Bulletin SB 28-4127, dated June 2013, when it was issued.

(A) If you can positively identify the wet wing interconnect tube is installed with the correct clamp and the correct torque value during the inspection required in paragraph (h)(1)(ii) of this AD, return airplane to service and perform leak check following Part 1 of the Accomplishment Instructions in Beechcraft Mandatory Service Bulletin SB 28-4127, dated June 2013.

(B) If you cannot positively identify the wet wing interconnect tube is installed with the correct clamp and/or the correct torque value during the inspection required in paragraph (h)(1)(ii) of this AD, before further flight, replace the clamp with P/N 52KS3 or P/N 4852SS305 and/or correct the clamp torque to 20 to 25 inch pounds. Return airplane to service and do a leak check following Part 1 of the Accomplishment Instructions in Beechcraft Mandatory Service Bulletin SB 28-4127, dated June 2013.

(2) For Model G58 airplanes, SNs TH-2335, TH-2338 through TH-2348, TH-2351 through TH-2359, TH-2362 through TH-2366, TH-2369, and TH-2371 that are not in compliance with Part 1 of the Accomplishment Instructions in Beechcraft Mandatory Service Bulletin SB 28-4127, dated June 2013: Within 100 hours TIS after February 9, 2015 (the effective date of this AD) or within the next 12 months after February 9, 2015 (the effective date of this AD), whichever occurs first, do the following actions in paragraphs (h)(2)(i) through (h)(2)(iii) of this AD, including all subparagraphs.

(i) Inspect the fuel cell system following Part 1 of the Accomplishment Instructions in Beechcraft Mandatory Service Bulletin SB 28-4127, dated June 2013.

(ii) If any discrepancies are found in the inspection required in paragraph (h)(2)(i) of this AD, before further flight, replace/correct those discrepancies following Part 1 of the Accomplishment Instructions in Beechcraft Mandatory Service Bulletin SB 28-4127, dated June 2013. If the corrective action requires replacement of one of the fuel cells, replace the fuel cell with Beechcraft Corporation P/N 60-921046-1, 60-921046-2, 002-920034-1, 002-920034-2, 58-380003-5, or 58-380003-6, as applicable.

(iii) During the inspection required in paragraph (h)(2)(i) of this AD, ensure that wet wing interconnect tube P/N 60-921047-1 is installed in the leading edge outboard fuel cell with clamp P/N 52KS3 or P/N 4852SS305 and the clamp is torqued to 20 to 25 inch pounds.

(A) If you can positively identify the wet wing interconnect tube is installed with the correct clamp and the correct torque value during the inspection required in paragraph (h)(2)(iii) of this AD, return airplane to service and perform leak check following Part 1 of the Accomplishment Instructions in Beechcraft Mandatory Service Bulletin SB 28-4127, dated June 2013.

(B) If you cannot positively identify the wet wing interconnect tube is installed with the correct clamp and/or the correct torque value during the inspection required in paragraph (h)(2)(iii) of this AD, before further flight, replace the clamp with P/N 52KS3 or P/N 4852SS305 and/or correct the clamp torque to 20 to 25 inch pounds. Return airplane to service and do leak check following Part 1 of the Accomplishment Instructions in Beechcraft Mandatory Service Bulletin SB 28-4127, dated June 2013.

(3) For Model G58 airplanes SNs TH-2336, TH-2337, TH-2349, TH-2350, TH-2360, TH-2361, TH-2367, TH-2368, TH-2370, TH-2372, and TH-2373: Within 100 hours TIS after February 9, 2015 (the effective date of this AD) or within the next 12 months after February 9, 2015 (the effective date of this AD), whichever occurs first, inspect the fuel system following Part 2 of the Accomplishment Instructions in Beechcraft Mandatory Service Bulletin SB 28-4127, dated June 2013. If any discrepancies are found, before further flight, replace/correct those discrepancies following Part 2 of the Accomplishment Instructions in Beechcraft Mandatory Service Bulletin SB 28-4127, dated June 2013.

(i) Special Flight Permit

Special flight permits are permitted in accordance with 14 CFR 39.23 provided the following limitation is adhered to: One flight to a repair facility.

(j) Alternative Methods of Compliance (AMOCs)

(1) The Manager, Wichita Aircraft Certification Office (ACO) (for the Beechcraft parts), FAA, or the Manager, Atlanta ACO (for the FFC PMA parts), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD.

(2) Before using any approved AMOC, notify your appropriate principal inspector, or lacking a principal inspector, the manager of the local flight standards district office/certificate holding district office.

(k) Related Information

(1) For information relating to Beechcraft Corporation Model G58 airplanes or part numbers contact: Thomas Teplik, Aerospace Engineer, Wichita ACO, FAA, 1801 Airport Road, Room 100, Wichita, Kansas 67209; phone: (316) 946-4196; fax: (316) 946-4107; email: thomas.teplik@faa.gov.

(2) For information relating to FFC PMA fuel cells contact: Keith Moore, Atlanta ACO, FAA, 1701 Columbia Avenue, College Park, Georgia 30337; telephone: (404) 474-5517; fax: (404) 474-5500; email: keith.moore@faa.gov.

(3) For service information identified in this AD, contact Beechcraft Corporation, 2121 South Hoover Road, Wichita, Kansas 67209; telephone: (316) 676-3140; fax: (316) 676-8027; email: Piston_support@txtav.com; Internet: www.beechcraft.com. You may review copies of the referenced service information at the FAA, Small Airplane Directorate, 901 Locust, Kansas City, Missouri 64106. For information on the availability of this material at the FAA, call (816) 329-4148.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Beechcraft Corporation Beechcraft Mandatory Service Bulletin SB 28-4127, dated June 2013.

(ii) Beechcraft Corporation Beechcraft Mandatory Service Bulletin SB 28-4131, dated November 2013.

(3) For Beechcraft Corporation service information identified in this AD, contact Beechcraft Corporation, 2121 South Hoover Road, Wichita, Kansas 67209; telephone: (316) 676-3140; fax: (316) 676-8027; email: Piston_support@txtav.com; Internet: www.beechcraft.com.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Appendix 1 to AD 2014-26-05

For Model G58 Airplanes Serial Numbers TH-2356 Through TH-2359, TH-2362 Through TH-2366, TH-2369, and TH-2371 That Have Already Completed Beechcraft Mandatory Service Bulletin SB 28-4131, Dated November 2013, but Have Not Completed Part 1 of Beechcraft Mandatory Service Bulletin SB 28-4127, Dated June 2013

The information in the appendix cannot be used for direct compliance with the AD. All of the actions in paragraphs (g) and (h) of this AD must be completed for compliance with this AD. The following is a suggested order of tasks that may assist the mechanic in completing overlapping tasks associated with Beechcraft Mandatory Service Bulletin SB 28-4131, dated November 2013, and Part 1 of Beechcraft Mandatory Service Bulletin SB 28-4127, dated June 2013.

Suggested Order of Tasks

1. Do steps (1) through (6) and (6)(a) through (6)(d) (Outboard Wet Wing Interconnect Area) of Part 1 of the Accomplishment Instructions in Beechcraft Mandatory Service Bulletin SB 28-4127. Ensure that wet wing interconnect tube part number (P/N) 60-921047-1 is installed in the leading edge outboard fuel cell with the correct clamp P/N 52KS3 or P/N 4852SS305 and the clamp is correctly torqued to 20 to 25 inch pounds. Note: For step (6)(d) of Part 1 of the Accomplishment Instructions in Beechcraft Mandatory Service Bulletin SB 28-4127, the access panels may need to be removed again for additional tasks listed below.

2. For any fuel cells that were not replaced while doing Beechcraft Mandatory Service Bulletin SB 28-4131, inspect by doing step (7) (Inspection at Three Fuel Cells) of Part 1 of the Accomplishment Instructions in Beechcraft Mandatory Service Bulletin SB 28-4127.

3. If any of the fuel cells are found damaged or leaking during the inspection, replace with fuel cells listed in Beechcraft Mandatory Service Bulletin SB 28-4131.

4. Do steps (8) through (25) (Inspection of Wheel Well and Nacelle Area) of Part 1 of the Accomplishment Instructions in Beechcraft Mandatory Service Bulletin SB 28-4127.

Appendix 2 to AD 2014-26-05

For Model G58 Airplanes Serial Numbers TH-2356 Through TH-2359, TH-2362 Through TH-2366, TH-2369, and TH-2371 That Have Not Completed Beechcraft Mandatory Service Bulletin SB 28-4131, Dated November 2013, and Have Not Completed Part 1 of Beechcraft Mandatory Service Bulletin SB 28-4127, Dated June 2013

The information in the appendix cannot be used for direct compliance with the AD. All of the actions in paragraphs (g) and (h) of this AD must be completed for compliance with this AD. The following is a suggested order of tasks that may assist the mechanic in completing overlapping tasks associated with Beechcraft Mandatory Service Bulletin SB 28-4131, dated November 2013, and Part 1 of Beechcraft Mandatory Service Bulletin SB 28-4127, dated June 2013.

Suggested Order of Tasks

1. Do steps (1)(a) through (1)(e) of the Accomplishment Instructions in Beechcraft Mandatory Service Bulletin SB 28-4131. This can be done concurrently with steps 1 through 5 of the Accomplishment Instructions in Beechcraft Mandatory Service Bulletin SB 28-4127 Part 1.

2. Do steps (6) and (6)(a) through (6)(d) (Outboard Wet Wing Interconnect Area) of Part 1 of the Accomplishment Instructions in Beechcraft Mandatory Service Bulletin SB 28-4127. Ensure that wet wing interconnect tube part number (P/N) 60-921047-1 is installed in the leading edge outboard fuel cell with the correct clamp P/N 52KS3 or P/N 4852SS305 and the clamp is correctly torqued to 20 to 25 inch pounds.

Note: For step (6)(d) of Part 1 of the Accomplishment Instructions in Beechcraft Mandatory Service Bulletin SB 28-4127, the access panels may need to be removed again for additional tasks listed below.

3. Do step (1)(f) of the Accomplishment Instructions in Beechcraft Mandatory Service Bulletin SB 28-4131.

4. If it has been determined by doing step 1(f) of Beechcraft Mandatory Service Bulletin SB 28-4131, that any of the following correct fuel cells P/Ns 60-921046-1, 60-921046-2, 002-920034-1, 002-920034-2, 58-380003-5, or 58-380003-6 are installed in the airplane, do steps (7)(a) through (7)(c) (Inspection at Three Fuel Cells) of Part 1 of the Accomplishment Instructions in Beechcraft Mandatory Service Bulletin SB 28-4127. These steps ensure P/Ns 60-921046-1, 60-921046-2, 002-920034-1, 002-920034-2, 58-380003-5, or 58-380003-6 is properly installed.

5. If it has been determined by doing step 1(f) of Beechcraft Mandatory Service Bulletin SB 28-4131, that any of the following fuel cell P/Ns 60-921046-5, 60-921046-6, 002-920034-9, 002-920034-10, 58-380003-13, or 58-380003-14 or PMA part numbers B-2503-9/-10, B-2034-3/-4, or B-2646-3/-4 are installed in the airplane, do steps (2) through (5) of the Accomplishment Instructions in Beechcraft Mandatory Service Bulletin SB 28-4131. These steps ensure improperly fitting fuel cells are removed from the airplane. Do steps (7)(a) through (7)(c) (Inspection at Three Fuel Cells) of Part 1 of the Accomplishment Instructions in Beechcraft Mandatory Service Bulletin SB 28-4127. For any fuel cell that needs replacing, replace with fuel cells listed in Beechcraft Mandatory Service Bulletin SB 28-4131.

6. Do step (7)(d) of Part 1 of the Accomplishment Instructions in Beechcraft Mandatory Service Bulletin SB 28-4127. This step can be done concurrently with step (5) of the Accomplishment Instructions in Beechcraft Mandatory Service Bulletin SB 28-4131.

7. Do steps (8) through (25) (Wheel Well and Nacelle Area and Final Check) of Part 1 of the Accomplishment Instructions in Beechcraft Mandatory Service Bulletin SB 28-4127.

8. Do steps (6) through (10) of the Accomplishment Instructions in Beechcraft Mandatory Service Bulletin SB 28-4131.

Note: Steps (21), (24), and (25) from task 7 and steps (8), (9), and (10) from task 8 can be done concurrently.

Appendix 3 to AD 2014-26-05

For Model G58 Airplanes Serial Numbers TH-2360, TH-2361, TH-2367, TH-2368, TH-2370, TH-2372, and TH-2373 That Have Not Completed Beechcraft Mandatory Service Bulletin SB 28-4131, Dated November 2013 and Have Not Completed Part 2 of Beechcraft Mandatory Service Bulletin SB 28-4127, Dated June 2013

The information in the appendix cannot be used for direct compliance with the AD. All of the actions in paragraphs (g) and (h) of this AD must be completed for compliance with this AD. The following is a suggested order of tasks that may assist the mechanic in completing overlapping tasks associated with Beechcraft Mandatory Service Bulletin SB 28-4131, dated November 2013, and Part 2 of Beechcraft Mandatory Service Bulletin SB 28-4127, dated June 2013.

Suggested Order of Tasks

1. Do steps (1) through (5) of the Accomplishment Instructions in Beechcraft Mandatory Service Bulletin SB 28-4131.

2. Do steps (7) and (8) of the Accomplishment Instructions in Beechcraft Mandatory Service Bulletin SB 28-4131.

3. Do steps (1) through (6) of Part 2 of the Accomplishment Instructions in Beechcraft Mandatory Service Bulletin SB 28-4127. For step (2), heat shields should have been previously removed for Beechcraft Mandatory Service Bulletin SB 28-4131.

4. Do steps (7) through (11) of Part 2 of the Accomplishment Instructions in Beechcraft Mandatory Service Bulletin SB 28-4127.

5. Do steps (6), (9), and (10) of the Accomplishment Instructions in Beechcraft Mandatory Service Bulletin SB 28-4131.

Note: Steps (9) and (10) from task 5 and steps (10), and (11) from task 4 can be done concurrently.

Issued in Kansas City, Missouri, on December 22, 2014.
Robert Busto,
Acting Manager, Small Airplane Directorate, Aircraft Certification Service.

[FR Doc. 2014-30490 Filed 1-2-15; 8:45 am]

BILLING CODE 4910-13-P